ENVIRONMENTAL PROTECTION AGENCY

[FRL-6895-9]

Agency Information Collection Activity: Questionnaire for Nominees for the Annual National Clean Water Act Recognition Awards Program (National Wastewater Management Excellence Awards Program)

AGENCY: Environmental Protection Agency (EPA).

ACTION: Notice.

SUMMARY: In compliance with the Paperwork Reduction Act (44 U.S.C. 3501 et seq.), this notice announces that the following Information Collection Request (ICR) has been forwarded to the Office of Management and Budget (OMB) for review and approval: Questionnaire for the Nominees for the Annual National Clean Water Act Recognition Awards Program (National Wastewater Management Excellence Awards Program), OMB Control No. 2040-0101, expires December 31, 2000. This ICR describes the nature of the information collection and its expected burden and cost; where appropriate, it includes the actual data collection instrument.

DATES: Comments must be submitted on or before December 4, 2000.

ADDRESSES: Send comments, referencing EPA ICR No. 2040-0101, to the following addresses: Sandy Farmer, U.S. Environmental Protection Agency, Collection Strategies Division (Mail Code 2822), 1200 Pennsylvania Avenue, NW., Washington, DC 20460; and to Office of Information and Regulatory Affairs, Office of Management and Budget, Attention: Desk Officer for EPA, 725 17th Street, NW., Washington, DC 20503.

FOR FURTHER INFORMATION CONTACT: For a copy of the ICR contact Sandy Farmer at EPA, (202) 260-2740, by E-mail at farmer.sandy@epamail.epa.gov, or download off the Internet at http://www.epa.gov/icr and refer to EPA ICR No. 1287.06. For technical questions about the ICR contact Maria Campbell, (202) 260-5815 in the Office of Water.

SUPPLEMENTARY INFORMATION: Title: Questionnaire for Nominees for the Annual National Clean Water Act Recognition Awards Program (National Wastewater Management Excellence Awards Program) (OMB Control No. 2040-0101; EPA ICR No. 1287.06) expires December 31, 2000. This ICR is a re-approval to collect data from EPA's National Clean Water Act Recognition Awards nominees. EPA requests that the currently approved 2800 burden hours be re-approved for the next three years.

Abstract: This ICR requests re-approval to collect information from EPA's National Clean Water Act Recognition Awards nominees. The awards are for the following program categories: Operations and Maintenance (O&M), Beneficial Use of Biosolids (Biosolids), Combined Sewer Overflow Controls (CSO) and Storm Water (SW) management. (Note: Information collection approval for the Pretreatment awards program is included in the National Pretreatment Program ICR (OMB No. 2040-0009, EPA ICR No. 0002.09), approved through September 30, 2003). The Awards Program is managed by EPA's Office of Wastewater Management (OWM). The Awards Program is authorized under section 501(e) of the Clean Water Act, as amended. The Awards Program is intended to provide recognition to municipalities and industries which have demonstrated outstanding technological achievements, innovative processes, devices or other outstanding methods in their waste treatment and pollution abatement programs. Approximately 50 awards are presented annually. The achievements of these award winners are summarized in reports, news articles and national publications.

Submission of information on behalf of the respondents is voluntary. No confidential information is requested. The agency only collects information from award nominees under a currently valid OMB control number. The OMB control numbers for EPA's regulations are listed in 40 CFR part 9 and 48 CFR Chapter 15. The Federal Register Notice required under 5 CFR 1320.8(d), soliciting comments on this collection of information was published on May 18, 2000 (65 FR 31550-31551); No comments were received.

Burden Statement: The annual public reporting and recordkeeping burden for this collection of information is estimated to average eight hours per response. This estimate of burden includes the total time, effort, or financial resources expended to generate, maintain, retain, disclose, or provide information to EPA. This estimate includes the time needed to review instructions; collect, validate, and verify information, complete and review the collection of information; and transmit the information to EPA.

Respondents/Affected Entities: Wastewater Treatment Industries and Municipalities.

Estimated Number of Respondents: 400.

Frequency of Response: Once annually.

Estimated Total Annual Hour Burden: 2800 hours (1600 hours for the recipients time and 1200 hours for the States' review time).

Estimated Total Annualized Cost Burden: $79,200 per year ($46,600 for the respondents and $33,200 for the States' review time).

Send comments on the Agency's need for this information, the accuracy of the provided burden estimates, and any suggested methods for minimizing respondent burden, including through the use of automated collection techniques to the following addresses. Please refer to EPA ICR No. 1287.06 and OMB Control No. 2040-0101 in any correspondence.

Dated: October 26, 2000.
Oscar Morales,
Director, Collection Strategies Division.

[FR Doc. 00-28275 Filed 11-2-00; 8:45 am]

BILLING CODE 6560-50-P